FEDERAL TRADE COMMISSION

16 CFR Part 453

Funeral Industry Practices

AGENCY: Federal Trade Commission.

ACTION: Proposed rule; extension of comment period.

SUMMARY: The Federal Trade Commission (“FTC” or “Commission”) is extending the deadline for filing comments on its Trade Regulation Rule entitled “Funeral Industry Practices Rule” (“Funeral Rule” or “Rule”).

DATES: The deadline for comments on the proposed rule published February 14, 2020 at 85 FR 8490 is extended. Comments must be received on or before June 15, 2020.

ADDRESSES: Interested parties may file a comment online or on paper by following the instructions in the Instructions for Submitting Comments part of the SUPPLEMENTARY INFORMATION section below. Write “Funeral Rule Regulatory Review, 16 CFR Part 453, Project No. P034410,” on your comment and file your comment online through https://www.regulations.gov. If you prefer to file your comment on paper, mail your comment to the following address: Federal Trade Commission, Office of the Secretary, 600 Pennsylvania Avenue NW, Suite CC-5610 (Annex B), Washington, DC 20580, or deliver your comment to the following address: Federal Trade Commission, Office of the Secretary, Constitution Center, 400 7th Street SW, 5th Floor, Suite 5610 (Annex B), Washington, DC 20024.

FOR FURTHER INFORMATION CONTACT: Patti Poss (202-326-2413), Division of Marketing Practices, Bureau of Consumer Protection, Federal Trade Commission, 600 Pennsylvania Avenue NW, Washington, DC 20580, pposs@ftc.gov.

SUPPLEMENTARY INFORMATION:

I. Comment Period Extension

On February 14, 2020, the Commission published in the Federal Register a Request for Public Comment on the Federal Trade Commission's Funeral Industry Practices Rule, with an April 14, 2020, deadline for filing comments. 85 FR 8490. The Commission published the proposed rule to solicit public comments about the efficiency, costs, benefits, and regulatory impact of the Funeral Rule as part of its systematic review of all current Commission regulations and guides. Interested parties have subsequently requested an extension of the public comment period to provide additional time to respond to the request for comment in light of the disruption caused by the coronavirus pandemic.

The Commission agrees that allowing additional time for filing comments regarding the Funeral Rule would help facilitate the creation of a more complete record. The Commission has therefore decided to extend the comment period for 60 days, to June 15, 2020. A 60-day extension provides commenters adequate time to address the issues raised in the Notice.

II. Instructions for Submitting Comments

You can file a comment online or on paper. For the Commission to consider your comment, we must receive it on or before June 15, 2020. Write “Funeral Rule Regulatory Review, 16 CFR Part 453, Project No. P034410” on your comment. Your comment, including your name and your state, will be placed on the public record of this proceeding, including, to the extent practicable, on the https://www.regulations.gov website.

We strongly encourage you to submit your comments online through the https://www.regulations.gov website. Due to the public health emergency in response to the COVID-19 outbreak and the agency's heightened security screening, postal mail addressed to the Commission will be subject to delay. If you file your comment on paper, write “Funeral Rule Regulatory Review, 16 CFR Part 453, Project No. P034410,” on your comment and on the envelope, and mail your comment to the following address: Federal Trade Commission, Office of the Secretary, 600 Pennsylvania Avenue NW, Suite CC-5610 (Annex B), Washington, DC 20580, or deliver your comment to the following address: Federal Trade Commission, Office of the Secretary, Constitution Center, 400 7th Street SW, 5th Floor, Suite 5610, Washington, DC 20024. If possible, please submit your paper comment to the Commission by courier or overnight service.

Because your comment will be placed on the publicly accessible website, https://www.regulations.gov, you are solely responsible for making sure that your comment does not include any sensitive or confidential information. In particular, your comment should not include any sensitive personal information such as your or anyone's Social Security number, date of birth, driver's license number or other state identification number or foreign country equivalent, passport number, financial account number, or credit or debit card number. You are also solely responsible for making sure that your comment does not include any sensitive health information, such as medical records or other individually identifiable health information. In addition, your comment should not include any “[t]rade secret or any commercial or financial information which . . . is privileged or confidential”—as provided in section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at www.regulations.gov—as legally required by FTC Rule 4.9(b)—we cannot redact or remove your comment, unless you submit a confidentiality request that meets the requirements for such treatment under FTC Rule 4.9(c), and the General Counsel grants that request.

Visit the FTC website to read this request for comment and the news release describing it. The FTC Act and other laws that the Commission administers permit the collection of public comments to consider and use in this proceeding as appropriate. The Commission will consider all timely and responsive public comments that it receives on or before June 15, 2020. For information on the Commission's privacy policy, including routine uses permitted by the Privacy Act, see https://www.ftc.gov/site-information/privacy-policy.

By direction of the Commission.
April J. Tabor,
Acting Secretary.

[FR Doc. 2020-07172 Filed 4-10-20; 8:45 am]

BILLING CODE 6750-01-P